DEPARTMENT OF VETERANS AFFAIRS

Clinical Science Research and Development Service; Cooperative Studies Scientific Merit Review Board; Notice of Meeting

The Department of Veterans Affairs (VA) gives notice under Public Law 92-463 (Federal Advisory Committee Act) that a meeting of the Clinical Science Research and Development Service, Cooperative Studies Scientific Merit Review Board will be held on October 6-7, 2004, at the Holiday Inn, 8777 Georgia Ave., Silver Spring, MD. The session is scheduled to begin at 8 a.m. and end at 3 p.m. each day.

The Board advises the Chief Research and Development Officer through the Director of the Clinical Science Research and Development Service on the relevance and feasibility of the studies, the adequacy of the protocols, and the scientific validity and propriety of technical details, including protection of human subjects.

The meeting will be open to the public for the October 6 through October 7 sessions from 8 a.m. to 8:30 a.m. for the discussion of administrative matters and the general status of the program. On October 6 through October 7 from 8:30 a.m. to 3 p.m., the meeting will be closed for the Board's review of research and development applications.

This meeting will involve consideration of specific proposals in accordance with provisions set forth in section 10(d) of Public Law 92-463, as amended by sections 5(c) of Public Law 94-409, and 5 U.S.C. 552b(c)(6) and (c)(9). During the closed session of the meeting, discussions and recommendations will deal with qualifications of personnel conducting the studies, staff and consultant critiques of research proposals and similar documents, and the medical records of patients who are study subjects, the disclosure of which would constitute a clearly unwarranted invasion of personnel privacy.

Those who plan to attend should contact Ms. Renee Kenan, Program Specialist, Cooperative Studies Program (125), Department of Veterans Affairs, 810 Vermont Avenue, NW., Washington, DC 20420, at (202) 254-0266.

Dated: August 2, 2004.
By Direction of the Secretary.
E. Philip Riggin,
Committee Management Officer.

[FR Doc. 04-18749 Filed 8-16-04; 8:45 am]

BILLING CODE 8320-01-M